DEPARTMENT OF HEALTH AND HUMAN SERVICES

Meeting of the Advisory Committee on Minority Health

AGENCY: Office of Minority Health, Office of the Assistant Secretary for Health, Office of the Secretary, Department of Health and Human Services.

ACTION: Notice of a virtual public meeting.

SUMMARY: As stipulated by the Federal Advisory Committee Act, the Department of Health and Human Services (DHHS) is hereby giving notice that a meeting of the Advisory Committee on Minority Health (ACMH) will be held virtually. This virtual meeting will take place via webinar and audio video conferencing technology. This meeting will be open to the public. Preregistration is required for both virtual public participation and comment. Any individual who wishes to participate in the virtual public meeting and/or in the public comment session should preregister at the following email address: acmh@osophs.dhhs.gov.

DATES: The meeting will be held virtually on Thursday, May 16, 2013, from 10:00 a.m. to 1:00 p.m. (EST).

ADDRESSES: The meeting will be conducted virtually only.

FOR FURTHER INFORMATION CONTACT: Ms. Monica A. Baltimore, Tower Building, 1101 Wootton Parkway, Suite 600, Rockville, Maryland 20852. Phone: 240-453-2882; Fax: 240-453-2883.

SUPPLEMENTARY INFORMATION: In accordance with Public Law 105-392, the ACMH was established to provide advice to the Deputy Assistant Secretary for Minority Health in improving the health of each racial and ethnic minority group and on the development of goals and specific program activities of the Office of Minority Health.

Topics to be discussed during this meeting will include patient protections, consumer assistance, and the Affordable Care Act. The Committee will also discuss strategies to improve the health of racial and ethnic minority populations through the development of health policies and programs that will help eliminate health disparities.

To participate in this meeting, please follow the instructions below:

(1) Participants are asked to dial in 15 minutes prior to the scheduled start time.

(2) For audio, participant Dial-in Numbers:

U.S. Toll Free: 800-875-3456

Canadian Toll Free: 800-648-0973

International Toll Free: 302-607-2001

Verbal Passcode (to be given to the operator): VS11535

This webinar will be limited to 125 participants. The Office of Minority Health will make every effort to accommodate persons with special needs. Individuals who have special needs for which special accommodations may be required should contact Professional and Scientific Associates at (703) 234-1700 and reference this meeting. Requests for special accommodations should be made at least ten (10) business days prior to the meeting.

Webinar Instructions:

Go to http://lotuslive.readyshow.com.

Before logging in, click on “Check your browser compatibility” at the bottom.

Participants will log in under the “Join A Conference” section. The Participant Passcode is 53385094.

Members of the public will have an opportunity to provide comments at the meeting. Public comments will be limited to two minutes per speaker during the time allotted. Individuals who would like to submit written statements should mail or fax their comments to the Office of Minority Health at least seven (7) business days prior to the meeting.

Public Comment: To participate during the public comment session please follow instructions below:

Press *1 to make a comment.

Press # to remove the comment from the comment queue.

Any members of the public who wish to have printed material distributed to ACMH members should submit their materials to the Executive Director, ACMH, Tower Building, 1101 Wootton Parkway, Suite 600, Rockville, Maryland 20852, prior to close of business Tuesday, May 7, 2013.

Dated: April 17, 2013.
Monica A. Baltimore,
Executive Director, Advisory Committee on Minority Health, Office of Minority Health, U.S. Department of Health and Human Services.

[FR Doc. 2013-10084 Filed 4-29-13; 8:45 am]

BILLING CODE 4150-29-P